DEPARTMENT OF TRANSPORTATION

Federal Railroad Administration

Agency Information Collection Activities

AGENCY: Federal Railroad Administration, DOT.

ACTION: Notice of OMB Approvals.

SUMMARY: In compliance with the Paperwork Reduction Act of 1995 (44 U.S.C. 3501 et seq.) and 5 CFR 1320.5(b), this notice announces that the information collection requirements (ICRs) listed below have been re-approved by the Office of Management and Budget (OMB) for an additional three years. These ICRs pertain to 49 CFR Parts 207, 209, 210, 212, 214, 215, 217, 218, 219, 220, 221, 223, 228, 229, 232, 233, 234, 235, and 236. The OMB approval numbers, titles, and expiration dates are included herein under the Supplementary Information title.

FOR FURTHER INFORMATION CONTACT: Mr. Robert Brogan, Office of Planning and Evaluation Division, RRS-21, Federal Railroad Administration, 1120 Vermont Ave., N.W., Mail Stop 17, Washington, D.C. 20590 (telephone: (202) 493-6292), or Dian Deal, Office of Information Technology and Productivity Improvement, RAD-20, Federal Railroad Administration, 1120 Vermont Ave., N.W., Mail Stop 35, Washington, D.C. 20590 (telephone: (202) 493-6133). (These telephone numbers are not toll-free.)

SUPPLEMENTARY INFORMATION: The Paperwork Reduction Act of 1995 (PRA), Pub. L. No. 104-13, § 2, 109 Stat. 163 (1995) (codified as revised at 44 U.S.C. 3501-3520), and its implementing regulations, 5 CFR Part 1320, require Federal agencies to display OMB control numbers and inform respondents of their legal significance once OMB approval is obtained. The following FRA ICRs were recently re-approved: (1) OMB No. 2130-0004, Railroad Locomotive Safety Standards and Event Recorders (49 CFR Part 229). The new expiration date for this information collection is September 30, 2003. (2) OMB No. 2130-0005, Hours of Service Regulations (49 CFR Part 228). The new expiration date for this information collection is September 30, 2003. (3) OMB No. 2130-0006, Railroad Signal System Requirements (49 CFR Parts 233, 235, and 236). The new expiration date for this information collection is July 31, 2003. (4) OMB No. 2130-0017, DOT Crossing Inventory Form. The new expiration date for this information collection is March 31, 2003. (5) OMB No. 2130-0035, Railroad Operating Rules (49 CFR Parts 217 and 220). The new expiration date for this information collection is August 31, 2003. (6) OMB No. 2130-0500, Accident/Incident Reporting and Recordkeeping (49 CFR Part 225). The new expiration date for this information collection is July 31, 2003. (7) OMB No. 2130-0502, Filing of Dedicated Cars (49 CFR Part 215). The new expiration date for this information collection is July 31, 2003. (8) OMB No. 2130-0506, Identification of Cars Moved in Accordance with Order 13528. The new expiration date for this information collection is June 30, 20003. (9) OMB No. 2130-0509, State Safety Participation Regulations and Remedial Actions (49 CFR Parts 209 and 212). The new expiration date for this information collection is August 31, 2003. (10) OMB No. 2130-0516, Remotely Controlled Railroad Switch Operations (49 CFR Part 218). The new expiration date for this information collection is July 31, 2003.

Additionally, the following ICRs have been re-approved for another three years: (11) OMB No. 2130-0519, Bad Order and Home Shop Card (49 CFR Part 215). The new expiration date for this information collection is July 31, 2003. (12) OMB No. 2130-0520, Stenciling Reporting Mark on Freight Cars (49 CFR Part 215). The new expiration date for this information collection is July 31, 2003. (13) OMB No. 2130-0523, Rear-End Marking Devices (49 CFR Part 221). The new expiration date for this information collection is August 31, 2003. (14) OMB No. 2130-0525, Certification of Glazing Materials (49 CFR Part 223). The new expiration date for this information collection is August 31, 2003. (15) OMB No. 2130-0526, Control of Alcohol and Drug Use in Railroad Operations (49 CFR Part 219). The new expiration date for this information collection is June 30, 2003. (16) OMB No. 2130-0527, New Locomotive Certification, Noise Compliance Regulations (49 CFR Part 210). The new expiration date for this information collection is July 31, 2003. (17) OMB No. 2130-0529, Disqualification Proceedings (49 CFR 209, Subpart D). The new expiration date for this information collection is July 31, 2003. (18) OMB No. 2130-0534, Grade Crossing Signal System Safety (49 CFR Part 234). The new expiration date for this information collection is July 31, 2003. (19) OMB No. 2130-0535, Bridge Worker Safety Rules (49 CFR Part 214). The new expiration date for this information collection is August 31, 2003. (20) OMB No. 2130-0537, Railroad Police Officers (49 CFR Part 207). The new expiration date for this information collection is June 30, 2003. (21) OMB No. 2130-0540, Two-way End-of-Train Devices (49 CFR Part 232). The new expiration date for this information collection is August 31, 2003.

Persons subject to the above ICRs are not required to respond to any collections of information unless they display currently valid OMB control numbers. These approvals certify that FRA has complied with the PRA provisions and with 5 CFR 1320.5(b) by informing the public about OMB's approval of the ICRs of the above cited regulations.

Authority: 44 U.S.C. 3501-3520.

Issued in Washington, D.C. on September 15, 2000.
Kathy A. Weiner,
Director, Office of Information Technology and Support Systems, Federal Railroad Administration

[FR Doc. 00-24152 Filed 9-19-00; 8:45 am]

BILLING CODE 4910-06-P